DEPARTMENT OF HEALTH AND HUMAN SERVICES

Centers for Medicare & Medicaid Services

[Document Identifier: CMS-64, CMS-21 and 21B and CMS-906]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Quarterly Medicaid Statement of Expenditures for the Medical Assistance Program; Use: The State Medicaid Agencies use the form CMS-64 to report their actual program benefit costs and administrative expenses to CMS. CMS uses this information to compute the Federal financial participation for the State's Medicaid Program costs. Form Number: CMS-64 (OMB# 0938-0067); Frequency: Quarterly; Affected Public: State, Local or Tribal Government; Number of Respondents: 56; Total Annual Responses: 224; Total Annual Hours: 18,144.

2. Type of Information Collection Request: Extension of a currently approved collection; Title of Information Collection: Quarterly Children's Health Insurance Program Statement of Expenditures for Title XXI; Use: States use the form CMS-21 to report budget, expenditure, and related statistical information required for implementation of the Children's Health Insurance Program. Form Number: CMS-21 and 21B (OMB# 0938-0731); Frequency: Quarterly; Affected Public: State, Local or Tribal Government; Number of Respondents: 56; Total Annual Responses: 448; Total Annual Hours: 7,840.

3. Type of Information Collection Request: Revision of a currently approved collection; Title of Information Collection: The Fiscal Soundness Reporting Requirements; Use: CMS is assigned responsibility for overseeing all Medicare Advantage Organizations (MAO) on-going financial performance. CMS needs the requested collection of information to establish that each MAO maintains a fiscally sound organization. Form Number: CMS-906 (OMB# 0938-0469); Frequency: Yearly; Affected Public: Business or other for-profits and Not-for-profit institutions; Number of Respondents: 700; Total Annual Responses: 700; Total Annual Hours: 233.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by June 2, 2008:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number ____, Room C4-26-05, 7500 Security Boulevard, Baltimore, Maryland 21244-1850.

Dated: March 27, 2008.
Michelle Shortt,
Director, Regulations Development Group, Office of Strategic Operations and Regulatory Affairs.

[FR Doc. E8-6771 Filed 4-1-08; 8:45 am]

BILLING CODE 4120-01-P